DEPARTMENT OF TRANSPORTATION

Surface Transportation Board

[Docket No. FD 27590 (Sub-No. 4)]

TTX Company, et al.—Application for Approval of Pooling of Car Service With Respect to Flatcars

AGENCY: Surface Transportation Board.

ACTION: Notice of Pooling Application and Request for Public Comments.

SUMMARY: On January 16, 2014, TTX Company (TTX) and certain participating railroads (collectively Applicants) filed an application to extend for 15 years TTX's flatcar pooling authority, which the Board's predecessor, the Interstate Commerce Commission (ICC), originally granted in 1974 and extended in 1989 and 1994, and the Board again extended in 2004. Under the Board's 2004 order, TTX's pooling authority is set to expire October 1, 2014. If the application seeking renewal or modification of pooling authority is pending before the Board but not yet decided by the existing expiration date, the pooling authority shall continue until 180 days after the Board has issued a final decision on the request and all appeals of that decision have been exhausted or the time to appeal has expired.

DATES: Any comments on the application must be filed by April 21, 2014. If comments are filed, Applicants' rebuttal is due by May 19, 2014.

ADDRESSES: An original and 10 copies of all pleadings, referring to Docket No. FD 27590 (Sub-No. 4), must be filed with the Surface Transportation Board, 395 E Street SW., Washington, DC 20423-0001. In addition, one copy of each comment must be sent to each of Applicants' representatives: (1) Michael L. Rosenthal, Covington & Burling, 1201 Pennsylvania Avenue NW., Washington, DC 20004; (2) David L. Meyer, Morrison Foerster, 2000 Pennsylvania Avenue NW., Suite 6000, Washington, DC 20006; and (3) Patrick B. Loftus, TTX Company, 101 North Wacker Drive, Chicago, IL 60606.

FOR FURTHER INFORMATION CONTACT: Jonathon Binet, (202) 245-0368. Federal Information Relay Service (FIRS) for the hearing impaired: 1-800-877-8339.

SUPPLEMENTARY INFORMATION: Applicants seek the Board's approval of a 15-year extension of their pooling of flatcar service. Under 49 U.S.C. 11322(a), the Board may approve a pooling agreement if it finds that the proposal: (1) Will be in the interest of better service to the public or of economy of operation, and (2) will not unreasonably restrain competition. The proposed pooling agreement was originally approved by the ICC in American Rail Box Car Co.—For Approval of the Pooling of Car Service with Respect to Box Cars, 347 I.C.C. 862 (1974). The agency subsequently approved a five-year extension of TTX's pooling authority in Trailer Train Co.—Pooling of Car Service with Respect to Flatcars, 5 I.C.C. 2d 552 (1989); a 10-year extension in TTX Co.—Application for Approval of the Pooling of Car Service with Respect to Flat Cars, FD 27590 (Sub-No. 2) (ICC served Aug. 31, 1994); and another 10-year extension in TTX Co.—Application for Approval of Pooling of Car Service with Respect to Flatcars, 7 S.T.B. 778 (2004). The present application seeks to extend TTX's authority to continue the flatcar pool under substantively the same pooling agreement—with certain technical updates—for an additional 15 years.

In addition to TTX, Applicants are:

BNSF Railway Company;

Grand Trunk Western Railroad Company & Illinois Central Railroad Company (Canadian National Railway Company);

Soo Line Railroad (Canadian Pacific Railway Company);

CSX Transportation, Inc.;

Ferrocarril Mexicano S.A. de C.V.;

Kansas City Southern Railway Company;

Central of Georgia Railroad Company & Norfolk Southern Railway Company;

Boston & Maine Corporation (Pan Am Railways); and

Union Pacific Railroad Company.

Applicants contend that, because the proposed transaction does not involve any changes in rail operations or service to shippers, neither environmental documentation nor an historic report is required. See 49 CFR 1105.6(c)(2) & 1105.8(b)(2).

Filings and Board decisions and notices are available on the Board's Web site at “WWW.STB.DOT.GOV.” Copies of the application may also be obtained free of charge by contacting one of Applicants' representatives, Michael L. Rosenthal, at (202) 662-6000. A copy of this notice will be served on the Department of Justice, Antitrust Division, 10th Street & Pennsylvania Avenue NW., Washington, DC 20530.

This action will not significantly affect either the quality of the human environment or the conservation of energy resources.

Decided: February 12, 2014.
By the Board, Rachel D. Campbell, Director, Office of Proceedings.
Jeffrey Herzig,
Clearance Clerk.

[FR Doc. 2014-03456 Filed 2-14-14; 8:45 am]

BILLING CODE 4915-01-P